DEPARTMENT OF COMMERCE

International Trade Administration

[A-570-970]

Multilayered Wood Flooring From the People's Republic of China: Final Results of Antidumping Duty Administrative Review; 2013-2014

AGENCY: Enforcement and Compliance, International Trade Administration, Department of Commerce.

SUMMARY: On January 8, 2016, the Department of Commerce (“the Department”) published the preliminary results of the third administrative review (“AR”) of the antidumping duty (“AD”) order on multilayered wood flooring (“MLWF”) from the People's Republic of China (“the PRC”), in accordance with sections 751(a)(1)(B) and 751(a)(2)(B) of the Tariff Act of 1930, as amended (“the Act”).¹ The period of review (“POR”) for the AR is December 1, 2013 through November 30, 2014. The AR covers 107 companies. The mandatory respondents in this review are: (1) Dalian Penghong Floor Products Co., Ltd. (“Penghong”); and (2) Fine Furniture (Shanghai) Limited (“Fine Furniture”). We received comments from interested parties on our Preliminary Results. Based on our analysis of the comments received, we made changes to the margin calculations for the final results of this administrative review. The final dumping margins are listed below in the “Final Results” section of this notice.

¹ See Multilayered Wood Flooring from the People's Republic of China; Preliminary Results of Antidumping Duty Administrative Review; 2013-2014, 81 FR 903 (January 8, 2016) (“Preliminary Results”) and accompanying Preliminary Decision Memorandum.

DATES: Effective Date: July 19, 2016.

FOR FURTHER INFORMATION CONTACT: Lilit Astvatsatrian or William Horn, AD/CVD Operations, Office IV, Enforcement and Compliance, International Trade Administration, Department of Commerce, 14th Street and Constitution Avenue NW., Washington, DC 20230; telephone: (202) 482-6412 or (202) 482-2615, respectively.

Background

As noted above, on January 8, 2016, the Department published its Preliminary Results. The Department invited parties to submit case briefs and hearing requests related to the Preliminary Results. On February 9, 2016, the Department received case briefs from the Fusong Jinlong Wooden Group Co., Ltd. (“Fusong Jinlong Group”) and Baishan Huafeng Wooden Product Co., Ltd. (“Baishan Huafeng”). On February 12, 2016, the Department received case briefs on behalf of the primary members of the Alliance for Free Choice and Jobs In Flooring (“the AFCJF”); ² Fine Furniture; Anhui Longhua Bamboo Product Co., Ltd., Benxi Wood Company, Dalian Kemian Wood Industry Co., Ltd., Dalian Shumaike Floor Manufacturing Co., Ltd., Dalian Xinjinghua Wood Co., Ltd., Dasso Industrial Group Co., Ltd., Dongtai Fuan Universal Dynamics LLC, GTP International Ltd., Guangzhou Panyu Kangda Board Co., Ltd., Guangzhou Panyu Southern Star Co., Ltd., Henan Xingwangjia Technology Co., Ltd., Hunchun Forest Wolf Wooden Industry Co., Ltd., Jiangsu Senmao Bamboo and Wood Industry Co., Ltd., Jiangsu Simba Flooring Co., Ltd., Jiangsu Yuhui International Trade Co., Ltd., Jiashan HuiJiaLe Decoration Material Co., Ltd., Kemian Wood Industry (Kunshan) Co., Ltd., Nanjing Minglin Wooden Industry Co., Ltd., Pinge Timber Manufacturing (Zhejiang) Co., Ltd., and Puli Trading Limited, Shenzhenshi Huanwei Woods Co., Ltd., and Suzhou Dongda Wood Co., Ltd., Xuzhou Antop International Trade Co., Ltd., Yixing Lion-King Timber Industry Co., Ltd., and Zhejiang Fudeli Timber Industry Co., Ltd. (collectively the “HB Respondents”); Dalian Huilong Wooden Products Co., Ltd., Xiamen Yung De Ornament Co., Ltd., and Yingyi-Nature (Kunshan) Wood Industry Co. Ltd.; and the Coalition for American Hardwood Parity (“CAHP”).³ On February 19, 2016, the Department received rebuttal briefs from Fine Furniture, the HB Respondents, Lumber Liquidators Services, LLC (“Lumber Liquidators”), on behalf of Dunhua City Dexin Wood Industry Co., Ltd., Dun Hua City Jisen Wood Industry Co., Ltd., Changzhou Hawd Flooring Co., Ltd., Karly Wood Product Limited, Yingyi-Nature (Kunshan) Wood Industry Co., Ltd., Dalian Huilong Wooden Products Co., Ltd., Dunhua City Hongyuan Wood Industry Co., Ltd., Jiaxing Hengtong Wood Co., Ltd., Xiamen Yung De Ornament Co., Ltd., Zhejiang Shuimojiangnan New Material Technology Co., Ltd. and Penghong (collectively “Penghong and Companies”), and CAHP. On February 12, 2016, the Department received requests for a hearing from Fine Furniture, CAHP, and Penghong and Companies. Various interested parties participated in a public hearing on May 4, 2016. On April 26, 2016, the Department extended the time period for issuing the final results of the AR by 60 days, until July 12, 2016.⁴

² The current primary members of the AFCJF, are importers of the subject merchandise and thus interested parties pursuant to 19 CFR 351.102(29)(ii).. These importers are: Swiff Train Co.; Metropolitan Hardwood Floors, Inc.; Real Wood Floors, LLC.; Galleher Corp; Crescent Hardwood Supply; Custom Wholesale Floors, Inc.; Pinnacle Interior Elements, Ltd.; Timeless Design Import LCC; CDC Distributors, Inc.; CLBY Inc. (dba D&M Flooring); Johnson's Premium Hardwood Flooring, Inc.; The Master's Craft Corp.; BR Custom Surface; Struxtur, Inc.; Doma Source LLC; Floor and Decor Outlets of America, Inc.; Wego Chemical & Chemical & Mineral Corp. and V.A.L. Floors, Inc. and Floor & Décor.

³ The member-companies of the CAHP are: Anderson Hardwood Floors, LLC; From the Forest; Howell Hardwood Flooring; Mannington Mills, Inc.; Nydree Flooring; and Shaw Industries Group, Inc.

⁴ See Memo to the file re: Multilayered Wood Flooring from the People's Republic of China: Extension of Deadline for Final Results of Antidumping Duty Administrative Review dated April 26, 2016.

Scope of the Order

The merchandise covered by the order includes MLWF, subject to certain exceptions.⁵ Imports of the subject merchandise are provided for under the following subheadings of the Harmonized Tariff Schedule of the United States (“HTSUS”): ”): 4412.31.0520; 4412.31.0540; 4412.31.0560; 4412.31.2510; 4412.31.2520; 4412.31.3175; 4412.31.4040; 4412.31.4050; 4412.31.4060; 4412.31.4070; 4412.31.4075; 4412.31.4080; 4412.31.5125; 4412.31.5135; 4412.31.5155; 4412.31.5165; 4412.31.5175; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

⁵ See Memorandum from Christian Marsh, Deputy Assistant Secretary for Antidumping and Countervailing Duty Operations to Paul Piquado, Assistant Secretary for Enforcement and Compliance, regarding “Decision Memorandum for Preliminary Results of 2013-2014 Antidumping Duty Administrative Review: Multilayered Wood Flooring from the People's Republic of China,” (“Preliminary Decision Memorandum”), issued and dated concurrently with this notice, for a complete description of the Scope of the Order.

While HTSUS subheadings are provided for convenience and customs purposes, the written description of the subject merchandise is dispositive. For the full text of the scope of the order, see Memorandum to Ronald K. Lorentzen, Acting Assistant Secretary for Enforcement and Compliance, from Christian Marsh, Deputy Assistant Secretary for Antidumping and Countervailing Duty Operations, “Issues and Decision Memorandum for the Final Results of the 2013-2014 Antidumping Duty Administrative Review of Multilayered Wood Flooring from the People's Republic of China,” (“Issues and Decision Memorandum”), dated concurrently with and hereby adopted by this notice.

Final Determination of No Shipments

In the Preliminary Results, we found that Changbai Mountain Development and Protection Zone Hongtu Wood Industrial Co., Ltd.; Dalian T-Boom Wood Products Co., Ltd.; Hangzhou Zhengtian Industrial Co., Ltd.; Jiangsu Guyu International Trading Co., Ltd.; Jiangsu Mingle Flooring Co., Ltd.; Linyi Bonn Flooring Manufacturing Co., Ltd.; Shanghai Eswell Timber Co., Ltd.; Shenyang Senwang Wooden Industry Co., Ltd.; Tongxiang Jisheng Import and Export Co., Ltd.; and Zhejiang Fuerjia Wooden Co., Ltd. had no shipments during the POR.⁶ We did not receive comments with respect to any of these companies. Thus, for these final results of review, we continue to find that those companies had no shipments during the POR. Consistent with our “automatic assessment” clarification, we will issue appropriate instructions with respect to these companies to U.S. Customs and Border Protection (“CBP”) based on our final results.⁷

⁶ See Preliminary Results, 81 FR at 903 foot note 5.

⁷ See Non-Market Economy Antidumping Proceedings: Assessment of Antidumping Duties, 76 FR 65694 (October 24, 2011) (Assessment of Antidumping Duties); see also the “Assessment” section of this notice, below.

Analysis of Comments Received

All issues raised in the case and rebuttal briefs filed by parties in the AR are addressed in the Issues and Decision Memorandum. A list of the issues that parties raised and to which we responded in the Issues and Decision Memorandum follows as an appendix to this notice. The Issues and Decision Memorandum is a public document and is on file electronically via Enforcement and Compliance's Antidumping and Countervailing Duty Centralized Electronic Service System (“ACCESS”). ACCESS is available to registered users at http://access.trade.gov and in the Central Records Unit, room B8024 of the main Department of Commerce building. In addition, a complete version of the Issues and Decision Memorandum can be accessed directly at http://enforcement.trade.gov/frn/. The paper copy and electronic version of the Issues and Decision Memorandum are identical in content.

Changes Since the Preliminary Results

• We revised the calculation of surrogate financial ratios based on the notes in financial statement used in the preliminary results.⁸

⁸ See Memorandum to the File from Lilit Astvatsatrian and William Horn, International Trade Compliance Analysts, “Multilayered Wood Flooring from the People's Republic of China: Final Surrogate Value Memorandum,” dated concurrently with this notice (“Final Surrogate Value Memorandum”), at page 2 and Exhibit 2.

• We revised surrogate values for several lumber raw materials in calculation of the normal value for Fine Furniture.⁹

⁹ Id., at page 1 and Exhibit 1.

• We deducted letter of credit expense from the surrogate value for brokerage and handling in the calculation of normal value for Fine Furniture.¹⁰

¹⁰ Id., at page 2 and Exhibit 3.

• We corrected the application of certain adjustments by deducting them from international movement in calculation of the U.S. net price for Fine Furniture.¹¹

¹¹ See Memorandum to the File from Lilit Astvatsatrian, International Trade Compliance Analyst, “Multilayered Wood Flooring from the People's Republic of China: Analysis of the Final Results Margin Calculation for Fine Furniture (Shanghai) Limited,” dated concurrently with this determination (“Final Analysis Memorandum”), at page 2 and Attachment 1.

• We corrected the spelling of Baishan Huafeng Wooden Product Co., Ltd.'s name.¹²

¹² See Issues and Decisions Memorandum at comment 11.

• We defined the members of Fusong Jinlong Group.¹³

¹³ Id., at comment 10.

• We treated certain companies as separate rate respondents.¹⁴

¹⁴ Id., at comment 9.

Final Results of the Administrative Review

We determine that the following weighted-average dumping margins exist for the POR from December 1, 2013 through November 30, 2014:

¹⁵ We note that the record reflects that Penghong and Shumaike were not affiliated until April 2014 (i.e., approximately 4 months into the POR). Because the record does not support treating Penghong as a single entity with Shumaike prior to the date of affiliation (i.e., April 2014), separate assessment rates will apply for the period from 11/30/2013 through 3/31/2014. In particular, the assessment rate for any entries by Shumaike will be 13.34 percent (the rate applicable to unexamined separate rate companies) and the assessment rate for any entries by Penghong will be 0.00.

¹⁶ The following companies are collectively known as The Fusong Jinlong Group (“Fusong Jinlong Group”): Dalian Qianqiu Wooden Product Co., Ltd.; Fusong Jinlong Wooden Group Co., Ltd.; Fusong Jinqiu Wooden Product Co., Ltd.; and Fusong Qianqiu Wooden Product Co., Ltd.

Exporter | Weighted-average dumping margin
Fine Furniture (Shanghai) Limited | 17.37
Dalian Penghong Floor Products Co., Ltd./Dalian Shumaike Floor Manufacturing Co., Ltd.¹⁵ | 0.00
A&W (Shanghai) Woods Co., Ltd | 17.37
Anhui Longhua Bamboo Product Co., Ltd | 17.37
Armstrong Wood Products (Kunshan) Co., Ltd | 17.37
Baishan Huafeng Wooden Product Co., Ltd | 17.37
Benxi Wood Company | 17.37
Changzhou Hawd Flooring Co., Ltd | 17.37
Chinafloors Timber (China) Co., Ltd | 17.37
Dalian Dajen Wood Co., Ltd | 17.37
Dalian Huade Wood Product Co., Ltd | 17.37
Dalian Huilong Wooden Products Co., Ltd | 17.37
Dalian Kemian Wood Industry Co., Ltd | 17.37
Dalian Xinjinghua Wood Co., Ltd | 17.37
Dasso Industrial Group Co., Ltd | 17.37
Dongtai Fuan Universal Dynamics, LLC | 17.37
Dunhua City Dexin Wood Industry Co., Ltd | 17.37
Dunhua City Hongyuan Wood Industry Co., Ltd | 17.37
Dun Hua City Jisen Wood Industry Co., Ltd | 17.37
Dunhua City Wanrong Wood Industry Co., Ltd | 17.37
Dun Hua Sen Tai Wood Co., Ltd | 17.37
Dunhua Shengda Wood Industry Co., Ltd | 17.37
Fusong Jinlong Group¹⁶ | 17.37
GTP International Ltd | 17.37
Guangdong Yihua Timber Industry Co., Ltd | 17.37
Guangzhou Panyu Kangda Board Co., Ltd | 17.37
Guangzhou Panyu Southern Star Co., Ltd | 17.37
HaiLin LinJing Wooden Products, Ltd | 17.37
Hangzhou Hanje Tec Co., Ltd | 17.37
Henan Xingwangjia Technology Co., Ltd | 17.37
Hunchun Forest Wolf Wooden Industry Co., Ltd | 17.37
Hunchun Xingjia Wooden Flooring Inc | 17.37
Huzhou Chenghang Wood Co., Ltd | 17.37
Huzhou Fulinmen Imp. & Exp. Co., Ltd | 17.37
Huzhou Fuma Wood Co., Ltd.¹⁷ | 17.37
Huzhou Jesonwood Co., Ltd | 17.37
Huzhou Ruifeng Imp. & Exp. Co., Ltd | 17.37
Huzhou Sunergy World Trade Co., Ltd | 17.37
Jiafeng Wood (Suzhou) Co., Ltd.¹⁸ | 17.37
Jiangsu Senmao Bamboo and Wood Industry Co., Ltd | 17.37
Jiangsu Simba Flooring Co., Ltd | 17.37
Jiangsu Yuhui International Trade Co., Ltd | 17.37
Jiashan HuiJiaLe Decoration Material Co., Ltd | 17.37
Jiaxing Hengtong Wood Co., Ltd | 17.37
Jilin Forest Industry Jinqiao Flooring Group Co., Ltd | 17.37
Jilin Xinyuan Wooden Industry Co., Ltd | 17.37
Karly Wood Product Limited | 17.37
Kemian Wood Industry (Kunshan) Co., Ltd | 17.37
Les Planchers Mercier, Inc | 17.37
Linyi Youyou Wood Co., Ltd | 17.37
MuDanJiang Bosen Wood Industry Co., Ltd | 17.37
Nakahiro Jyou Sei Furniture (Dalian) Co., Ltd | 17.37
Nanjing Minglin Wooden Industry Co., Ltd | 17.37
Ningbo Tianyi Bamboo & Wood Products Co., Ltd | 17.37
Pinge Timber Manufacturing (Zhejiang) Co., Ltd | 17.37
Power Dekor Group Co., Ltd | 17.37
Puli Trading Limited | 17.37
Shanghai Lairunde Wood Co., Ltd | 17.37
Shanghai Lizhong Wood Products Co., Ltd./The Lizhong Wood Industry Limited Company of Shanghai ¹⁹ | 17.37
Shanghai New Sihe Wood Co., Ltd | 17.37
Shanghai Shenlin Corporation | 17.37
Shenyang Haobainian Wooden Co., Ltd | 17.37
Shenzhenshi Huanwei Woods Co., Ltd | 17.37
Sino-Maple (JiangSu) Co., Ltd | 17.37
Suzhou Dongda Wood Co., Ltd | 17.37
Xiamen Yung De Ornament Co., Ltd | 17.37
Xuzhou Antop International Trade Co., Ltd | 17.37
Xuzhou Shenghe Wood Co., Ltd | 17.37
Yekalon Industry, Inc | 17.37
Yingyi-Nature (Kunshan) Wood Industry Co., Ltd | 17.37
Yixing Lion-King Timber Industry Co., Ltd | 17.37
Zhejiang Biyork Wood Co., Ltd | 17.37
Zhejiang Dadongwu Green Home Wood Co., Ltd | 17.37
Zhejiang Fudeli Timber Industry Co., Ltd | 17.37
Zhejiang Fuma Warm Technology Co., Ltd | 17.37
Zhejiang Longsen Lumbering Co., Ltd | 17.37
Zhejiang Shuimojiangnan New Material Technology Co., Ltd | 17.37

Assessment Rates

The Department will determine, and CBP shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise.²⁰ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties. For Penghong, whose weighted average dumping margin is zero, the Department will instruct CBP to liquidate appropriate entries without regard to antidumping duties.²¹ We intend to instruct CBP to liquidate entries of subject merchandise exported by the PRC-wide entity at the PRC-wide rate.

¹⁷ On July 13, 2015, the Department determined that Zhejiang Fuma Warm Technology Co., Ltd. is the successor-in-interest to Huzhou Fuma Wood Co., Ltd. See Multilayered Wood Flooring From the People's Republic of China: Final Results of Changed Circumstances Review, 80 FR 39998 (July 13, 2015). Because Huzhou Fuma Wood Co., Ltd. no longer exists as a legal entity, the rate assigned to Huzhou Fuma Wood Co., Ltd. will apply for assessment purposes only.

¹⁸ On November 16, 2015, the Department determined that Sino-Maple (JiangSu) Co., Ltd. is the successor-in-interest to Jiafeng Wood (Suzhou) Co., Ltd. See Multilayered Wood Flooring From the People's Republic of China: Final Results of Changed Circumstances Review, 80 FR 70756 (November 16, 2015). Because Jiafeng Wood (Suzhou) Co., Ltd. no longer exists as a legal entity, the rate assigned to Jiafeng Wood (Suzhou) Co., Ltd. will apply for assessment purposes only.

¹⁹ On September 30, 2014, the Department determined that Linyi Youyou Wood Co., Ltd. is the successor-in-interest to Shanghai Lizhong Wood Products Co., Ltd./The Lizhong Wood Industry Limited Company of Shanghai. See Multilayered Wood Flooring From the People's Republic of China: Final Results of Changed Circumstances Review, 79 FR 58740 (September 30, 2014). Because Shanghai Lizhong Wood Products Co., Ltd./The Lizhong Wood Industry Limited Company of Shanghai no longer exists as a legal entity, the rate assigned to Shanghai Lizhong Wood Products Co., Ltd./The Lizhong Wood Industry Limited Company of Shanghai will apply for assessment purposes only.

²⁰ See Antidumping Proceedings: Calculation of the Weighted-Average Dumping Margin and Assessment Rate in Certain Antidumping Proceedings: Final Modification, 77 FR 8101, 8103 (February 14, 2012).

²¹ See 19 CFR 351.212(b)(1).

If the Department determines that an exporter under review had no shipments of subject merchandise, any suspended entries that entered under that exporter's case number will be liquidated at the PRC-wide rate.²²

²² For a full discussion of this practice, see Assessment of Antidumping Duties.

For the companies not selected for individual examination, we will instruct CBP to apply the rate listed above to the entries of subject merchandise exported by such companies and entered during the period from December 1, 2013 through November 30, 2014. This rate is the same as the rate for the one mandatory respondent with a weighted-average dumping margin that is above de minimis.

Cash Deposit Requirements

The following cash deposit requirements will be effective upon publication of the final results of these reviews for shipments of the subject merchandise from the PRC entered, or withdrawn from warehouse, for consumption on or after the publication date in the Federal Register of the final results of review, as provided by section 751(a)(2)(C) of the Act. For Penghong, Fine Furniture, and the non-examined, separate rate respondents, the cash deposit rate will be equal to their weighted-average dumping margins established in the final results of this review, except if the rate is zero or de minimis, then no cash deposit will be required. Changbai Mountain Development and Protection Zone Hongtu Wood Industrial Co., Ltd.; Dalian T-Boom Wood Products Co., Ltd.; Hangzhou Zhengtian Industrial Co., Ltd.; Jiangsu Guyu International Trading Co., Ltd.; Jiangsu Mingle Flooring Co., Ltd.; Linyi Bonn Flooring Manufacturing Co., Ltd.; Shanghai Eswell Timber Co., Ltd.; Shenyang Senwang Wooden Industry Co., Ltd.; Tongxiang Jisheng Import and Export Co., Ltd.; and Zhejiang Fuerjia Wooden Co., Ltd. which claimed no shipments, the cash deposit rate will remain unchanged from their rate assigned in the most recently completed review of the company. For previously investigated or reviewed PRC and non-PRC exporters not listed above that received a separate rate in a prior segment of this proceeding, the cash deposit rate will continue to be the most-recently established exporter-specific rate. For all PRC exporters of subject merchandise that have not been found to be entitled a separate rate, the cash deposit rate will be that for the PRC-wide entity established in a redetermination of the final determination of the less than fair value investigation (i.e., 25.62 percent).²³ For all non-PRC exporters of subject merchandise which have not received their own rate, the cash deposit rate will be the rate applicable to the PRC exporter that supplied that non-PRC exporter. These deposit requirements, when imposed, shall remain in effect until further notice.

²³ See Multilayered Wood Flooring From the People's Republic of China: Notice of Court Decision Not in Harmony With the Final Determination and Amended Final Determination of the Antidumping Duty Investigation, 80 FR 44029, 44031 (July 24, 2015).

Disclosure

We intend to disclose the calculations performed regarding these AR final results within five days of the date of publication of this notice in this proceeding in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order (“APO”)

This notice also serves as a final reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing this Administrative Review and notice in accordance with sections 751(a)(1), 751(a)(2)(B), and 777(i) of the Act.

Dated: July 12, 2016.
Ronald K Lorentzen,
Acting Assistant Secretary for Enforcement and Compliance.

Appendix—Issues and Decision Memorandum

Summary

Background

Scope of the Order

List of Abbreviations and Acronyms

Discussion of the Issues

Comment 1: Surrogate Country

A. Whether The Department Should Rely Upon CAHP's Rejected Surrogate Country Arguments

B. Whether The Romanian Wood Products Industry Is Distorted by Government Involvement

C. Whether the Department Improperly Concluded That the Romanian Financial Statement Was Usable

D. Whether the Thai Financial Statements Should Have Been Rejected

E. Whether Romanian Input Data Are Superior to Thailand in Terms of Specificity

Comment 2: Selection of Romanian Surrogate Values of Face Veneers

Comment 3: Selection of Romanian Surrogate Values of Lumber

Comment 4: Correction of Surrogate Value Selections

Comment 5: Calculation of Surrogate Financial Ratios

Comment 6: Adjustment of Brokerage and Handling

Comment 7: Correction of a Clerical Error

Comment 8: Inclusion of Fine Furniture's Affiliate's Name in Customs Instructions

Comment 9: Treatment of Three Respondents as Separate Rate Applicants

Comment 10: Treatment of Fusong Jinlong Group as a Single Entity

Comment 11: Correction of Baishan Huafeng's Name

Recommendation

Table of Shortened Citations

Litigation Cite Table

[FR Doc. 2016-17049 Filed 7-18-16; 8:45 am]

BILLING CODE 3510-DS-P